DEPARTMENT OF THE INTERIOR

Fish and Wildlife Service

50 CFR Part 17

Endangered and Threatened Wildlife and Plants; Notice of Availability of a Genetics Study for the Status Review of the Yellow-billed Cuckoo in the Western United States and Reopening of Comment Period

AGENCY: Fish and Wildlife Service, Interior.

ACTION: Notice of availability and reopening of comment period.

SUMMARY: We, the U.S. Fish and Wildlife Service (Service), in conjunction with the United States Geological Service (USGS), announce the availability of a genetics study entitled the “Taxonomic and Evolutionary Significant Unit (ESU) Status of Western Yellow-billed Cuckoos (Coccyzus americanus).” This study, contracted by both agencies, was prepared by Dr. Robert Fleischer of the National Zoological Park, Smithsonian Institute, Washington DC.

We are also providing notice of the reopening of the comment period for the 12-month finding on a petition to list this species as endangered to allow all interested parties to comment simultaneously on the 90-day petition and study. Comments previously submitted need not be resubmitted as they will be incorporated into the public record as part of this reopened comment period, and will be fully considered in the 12-month petition finding.

DATES: We will accept public comments until June 20, 2001.

ADDRESSES: Persons wishing to review the study may receive a copy by contacting the Sacramento Fish and Wildlife Office, 2800 Cottage Way, Room W-2605, Sacramento, California 95825. Written comments and information should be submitted to the Field Supervisor at the address above. For electronic mail address and further instructions on commenting, refer to the Public Comments Solicited section of this notice.

FOR FURTHER INFORMATION CONTACT: Dwight Harvey or Stephanie Brady at the Sacramento Fish and Wildlife Office, at the above address (telephone 916/414-6600).

SUPPLEMENTARY INFORMATION:

Background

On February 17, 2000, we published in the Federal Register a 90-day finding on a petition to list the yellow-billed cuckoo (Coccyzus americanus) as endangered, pursuant to the Endangered Species Act (Act) of 1973, as amended (16 U.S.C. 1531 et seq.) (65 FR 8104). We determined that the petition presented substantial information that the listing of the yellow-billed cuckoo may be warranted, and initiated a status review which will result in a 12-month finding at the conclusion of the review. The information presented suggested that the yellow-billed cuckoo may be endangered in a significant portion of its range (i.e., the western United States), and that the western United States represents the range of a valid subspecies, termed the western yellow-billed cuckoo. In our 90-day petition finding, while we determined that the listing of the yellow-billed cuckoo may be warranted, the taxonomy of the species is unclear.

To clarify the validity and range of a western subspecies, the Service and USGS solicited proposals for a genetic analysis throughout the species breeding range in the United States and Mexico. We selected and funded a proposal submitted by Dr. Robert Fleischer of the Smithsonian Institution from a total of five proposals. We received the final genetics study prepared by Dr. Fleischer on April 24, 2001.

Public Comments Solicited

We will accept written comments and information during this reopened comment period. If you wish to comment, you may submit your comments and materials by any of several methods:

(1) You may submit written comments and information to the Field Supervisor, Sacramento Fish and Wildlife Office, 2800 Cottage Way, Room W-2605, Sacramento, California 95825.

(2) You may send comments by electronic mail (e-mail) to: FW1YBC@fws.gov. If you submit comments by e-mail, please submit them as an ASCII file and avoid the use of special characters and any form of encryption. Please also include your name and return address in your e-mail message. If you do not receive a conformation from the system that we have received your e-mail message, contact us directly by calling our Sacramento Fish and Wildlife Office at telephone number 916/414-6600.

(3) You may hand-deliver comments to our Sacramento Fish and Wildlife Office at the address given above.

Comments and materials received, as well as supporting documentation used in preparation of the 12-month petition finding to list the yellow-billed cuckoo, will be available for inspection, by appointment, during normal business hours at the address listed under (1) above. Copies of the study and the 90-day petition finding are available by writing to the Field Supervisor at the address under (1) above.

Author(s)

The primary authors of this notice are Stephanie Brady (see ADDRESSES section), and Barbara Behan, U.S. Fish and Wildlife Service, Regional Office, 911 N.E. 11th Avenue, Portland, Oregon 97232.

Authority: The authority for this action is the Endangered Species Act of 1973, as amended, 16 U.S.C. 1531 et seq..

Dated: May 30, 2001.
Alexandra Pitts,
Acting Manager, California and Nevada Operations Office.

[FR Doc. 01-14052 Filed 6-4-01; 8:45 am]

BILLING CODE 4310-55-P